DEPARTMENT OF TRANSPORTATION

Federal Aviation Administration

[Summary Notice No. PE-2000-04]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR Part 11), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before March 20, 2000.

ADDRESSES: Send comments on any petition in triplicate to: Federal Aviation Administration, Office of the Chief Counsel, Attn: Rule Docket (AGC-200), Petition Docket No. , 800 Independence Avenue, SW., Washington, DC 20591.

Comments may also be sent electronically to the following internet address: 9-NPRM-cmts@faa.gov.

The petition, any comments received, and a copy of any final disposition are filed in the assigned regulatory docket and are available for examination in the Rules Docket (AGC-200), Room 915G, FAA Headquarters Building (FOB 10A), 800 Independence Avenue, SW., Washington, D.C. 20591; telephone (202) 267-3132.

FOR FURTHER INFORMATION CONTACT: Cherie Jack (202) 267-7271 or Vanessa Wilkins (202) 267-8029 Office of Rulemaking (ARM-1), Federal Aviation Administration, 800 Independence Avenue, SW., Washington, D.C. 20591.

This notice is published pursuant to paragraphs (c), (e), and (g) of § 11.27 of Part 11 of the Federal Aviation Regulations (14 CFR Part 11).

Issued in Washington, D.C., on February 23, 2000.
Donald P. Byrne,
Assistant Chief Counsel for Regulations.

Dispositions of Petitions

Docket No.: 28397.

Petitioner: Tulsa Technology Center.

Section of the FAR Affected: 14 CFR 65.17(a), 65.19(b), and 65.75(a) and (b).

Description of Relief Sought/Disposition: To permit TTC to (1) administer the FAA oral and practical tests to students at times and places identified in TTC's operations handbook, (2) conduct oral and practical tests as an integral part of the education process rather than conducting the tests upon student's successful completion of the written tests, (3) approve students for retesting within 30 days after failure without requiring a signed statement certifying additional instruction has been given in the failed area, and (4) administer the aviation mechanic general written test to students immediately following successful completion of the general curriculum, before meeting the experience requirements of § 65.77. Grant, 01/21/2000, Exemption No. 6569B

Docket No.: 25559.

Petitioner: Aerospace Industries Association of America, Inc.

Section of the FAR Affected: 14 CFR 21.182(a) and 45.11(a).

Description of Relief Sought/Disposition: To permit AIA-member aircraft manufacturers to manufacture aircraft for use in operations conducted under 14 CFR part 121 or aircraft intended to be used for commuter operations under 14 CFR part 135 (as defined in 14 CFR part 119) and for export without installing an identification plate during the production phase of the exterior of those aircraft. Grant, 01/31/2000, Exemption No. 4913F

Docket No.: 26474.

Petitioner: Deere & Company.

Section of the FAR Affected: 14 CFR 21.197(a)(1).

Description of Relief Sought/Disposition: To permit Deere to operate its Cessna Model CE-650 aircraft (Registration Nos. N600JD and N900JD; Serial Nos. 650-0236 and 650-0213, respectively) without obtaining a special flight permit when the flaps fail in the up position. Denial, 01/04/2000, Exemption No. 7103.

[FR Doc. 00-4637 Filed 2-25-00; 8:45 am]

BILLING CODE 4910-13-M